DEPARTMENT OF HOMELAND SECURITY

Federal Emergency Management Agency

[Docket ID FEMA-2017-0024; OMB No. 1660-0137]

Agency Information Collection Activities: Proposed Collection; Comment Request; Emergency Notification System (ENS)

AGENCY: Federal Emergency Management Agency, DHS.

ACTION: Notice.

SUMMARY: The Federal Emergency Management Agency, as part of its continuing effort to reduce paperwork and respondent burden, invites the general public and other Federal agencies to take this opportunity to comment on an extension, without change, of a currently approved information collection. In accordance with the Paperwork Reduction Act of 1995, this notice seeks comments concerning the Emergency Notification System (ENS).

DATES: Comments must be submitted on or before August 21, 2017.

ADDRESSES: To avoid duplicate submissions to the docket, please use only one of the following means to submit comments:

(1) Online. Submit comments at www.regulations.gov under Docket ID FEMA-2017-0024. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Melton Roland, ENS Program Manager, FEMA/ORR, Melton.Roland@fema.dhs.gov, or telephone 540-665-6152. You may contact the Records Management Division for copies of the proposed collection of information at email address: FEMA-Information-Collections-Management@fema.dhs.gov.

SUPPLEMENTARY INFORMATION: FEMA's Office of Response & Recovery (ORR) owns and operates the Emergency Notification System (ENS). The ENS, designated by FEMA Directive 262-3 as the agency solution for all notification and alerts activities, sends electronic notifications and relays messages, whether critical in nature, routine, or for testing purposes with appropriate authorization, to DHS employees and contractors, as well as emergency response personnel. In accordance with Executive Order 12656, as amended, Presidential Policy Directive 40, and Federal Continuity Directive (FCD)-1, all DHS organizational components must have in place a viable Continuity of Operations Planning (COOP) capability and plan that ensures the performance of their essential functions during any emergency or situation that could disrupt normal operations. An effective ENS solution is a critical part of this plan.

Collection of Information

Title: Emergency Notification System (ENS).

Type of Information Collection: Extension, without change, of a currently approved information collection.

OMB Number: 1660-0137.

FEMA Forms: None.

Abstract: The ENS contains contact information for FEMA emergency team members, and for certain DHS HQ teams as well as USCIS and FLETC teams. The ENS uses this information to send email, call cell, home, work phones and SMS devices to inform team members they have been activated. Teams include FEMA HQ COOP, Hurricane Liaison Team (HLT), Urban Search & Rescue (US&R), Emergency Response Group (ERG), etc. The system can only be accessed via DHS OneNet.

Affected Public: State, Local or Tribal Government; Federal Government.

Number of Respondents: 700.

Number of Responses: 14,000.

Estimated Total Annual Burden Hours: 500.

Estimated Cost: The estimated annual cost to respondents for the hour burden is $14,410. There are no annual costs to respondents operations and maintenance costs for technical services. There are no annual start-up or capital costs. The cost to the Federal Government is $173,350.96.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: June 14, 2017.
Richard W. Mattison,
Records Management Program Chief, Mission Support, Federal Emergency Management Agency, Department of Homeland Security.

[FR Doc. 2017-12759 Filed 6-19-17; 8:45 am]

BILLING CODE 9111-23-P